DEPARTMENT OF LABOR

Office of the Secretary

Submission for OMB Review; Comment Request

April 30, 2001.

The Department of Labor (DOL) has submitted the following public information collection requests (ICRs) to the Office of Management and Budget (OMB) for review and approval in accordance with the Paperwork Reduction Act of 1995 (Pub. L. 104-13, 44 U.S.C. chapter 35). A copy of each individual ICR, with applicable supporting documentation, may be obtained by calling the Department of Labor. To obtain documentation contact Darrin King at (202) 693-4129 or E-Mail to King-Darrin@dol.gov.

Comments should be sent to Office of Information and Regulatory Affairs, Attn: OMB Desk Officer for OSHA, Office of Management and Budget, Room 10235, Washington, DC 20503 ((202) 395-7316), on or before June 6, 2001.

The OMB is particularly interested in comments which:

• Evaluate whether the proposed collection of information is necessary for the proper performance of the functions of the agency, including whether the information will have practical utility.

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Type of Review: Extension of a currently approved collection.

Agency: Occupational Safety and Health Administration (OSHA).

Title: Application for Training Grant.

OMB Number: 1218-0020.

Affected Public: Not-for-profit institutions and State, Local, or Tribal Government.

Frequency: Annually.

Number of Respondents: 200.

Number of Annual Responses: 200.

Estimated time Per Response: 55 hours.

Total Burden Hours: 11,050.

Total Annualized Capital/Startup Costs: $0.

Total Annual Costs (operating/maintaining systems or purchasing services): $0.

Description: The application for Training Grant is submitted by non-profit organizations interested in obtaining OSHA training grants. It is used by OSHA staff to select organizations to receive funds.

Type of Review: Extension of a currently approved collection.

Agency: Occupational Safety and Health Administration (OSHA).

Title: Grantee Quarterly Progress Report.

OMB Number: 1218-0100.

Affected Public: Not-for-profit institutions and State, Local, or Tribal Government.

Frequency: Quarterly.

Number of Respondents: 61.

Number of Annual Responses: 244.

Estimated Time Per Response: 12 hours.

Total Burden Hours: 2,928.

Total Annualized Capital/Startup Costs: $0.

Total Annual Costs (operating/maintaining systems or purchasing services): $0.

Description: The Grantee Quarterly Progress Report (OSHA-171) is used to collect information concerning activities conducted under OSHA training grant programs. The information is used to monitor the use of Federal grant funds.

Type of Review: Extension of a currently approved collection.

Agency: Occupational Safety and Health Administration (OSHA).

Title: Procedures for the Handling of Discrimination Complaints under Federal Employee Protection Statutes.

OMB Number: 1218-0236.

Affected Public: Business or other for-profit; Not-for-profit institutions; Farms; Federal Government; and State, Local, or Tribal Government.

Frequency: Once per complaint.

Number of Respondents: 200.

Number of Annual Responses: 200.

Estimated Time Per Response: 1 hour.

Total Burden Hours: 200.

Total Annualized Capital/Startup Costs: $0.

Total Annual Costs (operating/maintaining systems or purchasing services): $0.

Description: 29 CFR Part 24 requires employees who believe they have been discriminated against by employers, in violation of whistleblower provisions in certain laws for reporting unlawful practices that adversely affect the environment, to place their allegations in writing so they may where appropriate be investigated by the Department of Labor.

Ira L. Mills,
Departmental Clearance Officer.

[FR Doc. 01-11407 Filed 5-4-01; 8:45 am]

BILLING CODE 4510-26-M